DEPARTMENT OF HEALTH AND HUMAN SERVICES

Administration for Children and Families

Submission for OMB; Comment Request.

Title: Required Data Elements for Paternity Establishment Affidavits.

OMB No.: 0970-0171.

Description: Section 466(a)(5)(C)(iv) of the Social Security Act (the Act) requires States to develop and use an affidavit for the voluntary acknowledgment of paternity. The affidavit for the voluntary acknowledgment of paternity must include the minimum requirements specified by the Secretary under section 452(a)(7) of the Act. The affidavits will be used by hospitals, birth record agencies, and other entities participating in the voluntary paternity establishment program.

Respondents: State and Tribal IV-D agencies, hospitals, birth record agencies, and other entities participating in the voluntary paternity establishment program.

Annual Burden Estimates
Instrument | Number of respondents | Number of responses per respondent | Average burden hours per response | Total burden hours
None | 1,113,719 | 1 | 0.17 | 189,332.23

Estimated Total Annual Burden Hours: 189,332.23.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget

Paperwork Reduction Project

Email: OIRA_SUBMISSION@OMB.EOP.GOV

Attn: Desk Officer for the Administration for Children and Families

Robert Sargis,
Reports Clearance Officer.

[FR Doc. 2014-01097 Filed 1-21-14; 8:45 am]

BILLING CODE 4184-01-P